DEPARTMENT OF DEFENSE

Department of the Army

Final Environmental Impact Statement and Finding of No Practicable Alternative for the Proposed Heavy Off-Road Mounted Maneuver Training Area at Fort Benning, Georgia

AGENCY: Department of the Army, DoD.

ACTION: Notice of availability.

SUMMARY: The Department of the Army (Army) announces the availability of the Final Environmental Impact Statement (EIS) for the proposed Heavy Off-Road Mounted Maneuver Training Area (HOMMTA) at Fort Benning, Georgia. In accordance with the National Environmental Policy Act (NEPA), the Final EIS analyzes the potential environmental and socioeconomic impacts, and identifies related mitigation measures, associated with constructing, operating, and maintaining a HOMMTA of at least 2,400 contiguous acres at Fort Benning to support heavy off-road mounted maneuver (Proposed Action). The Proposed Action would support the Maneuver Center of Excellence (MCoE) in its mission to train the maneuver forces of the Army and would increase the total amount of heavy off-road maneuver training area on Fort Benning, enabling Fort Benning to conduct realistic training in accordance with current Army training requirements.

The Proposed Action would provide a training area to meet existing training needs; it would not result in additional soldiers being stationed at Fort Benning, traffic, or any training off of the Installation. Training land development would occur over a 2- to 3-year period; development would primarily include vegetation removal and the construction of tank trails, culverted water crossings, and road upgrades, as well as burying existing overhead utilities. As feasible, buffers would be used to protect environmentally sensitive resources such as streams, wetlands, cemeteries, and archaeological sites. A Finding of No Practicable Alternative (FONPA) addressing potential impacts on wetlands and 100-year floodplains is also included in the Final EIS.

DATES: No decision will be made until 30 days after publication of the Notice of Availability (NOA) in the Federal Register by the U.S. Environmental Protection Agency, at which time the Army may execute a Record of Decision (ROD).

ADDRESSES: Requests for additional information related to the Final EIS should be sent to Fort Benning Environmental Management Division, Attn: NEPA Program Manager, 6650 Meloy Drive, Building 6, Room 309, Fort Benning, Georgia 31905-5122, or email comments to john.e.brown12.civ@mail.mil.

FOR FURTHER INFORMATION CONTACT: Please contact Mr. John Brown, Fort Benning Environmental Management Division, at john.e.brown12.civ@mail.mil or (706) 545-7549 between 9 a.m. and 4 p.m. ET. Fort Benning has also established a web page that contains information updates and background on the HOMMTA EIS, including the materials identified in this NOA, at https://www.benning.army.mil.

SUPPLEMENTARY INFORMATION: Fort Benning plays a critical role in supporting the Army's overarching mission. As the Army's MCoE, the home of the Army's Armor and Infantry Schools, Fort Benning must support the institutional training of Infantry and Armor soldiers and leaders. The institutional training conducted at Fort Benning provides Army leaders with the opportunity to respond to a wide variety of situations that they can expect to encounter on the modern battlefield. Fort Benning is also home to several deployable units that conduct off-road mounted maneuver training, including the 1st Security Force Assistance Brigade, Task Force 1-28 Infantry, and elements of the 75th Ranger Regiment.

Fort Benning must be able to train and develop highly skilled and cohesive units capable of conducting operations across the full spectrum of potential conflicts. Inherent in and vital to training Infantry and Armor soldiers and leaders properly is the requirement to provide sufficient heavy off-road mounted maneuver training area. Currently, the only training area at Fort Benning suitable for heavy off-road mounted maneuver training is the Good Hope Maneuver Training Area (GHMTA). Since the initial development of the GHMTA, the Army's training strategy has changed to “cross-domain movement and maneuver” that requires additional contiguous area for heavy off-road maneuver.

The Final EIS analyzes the potential environmental and socioeconomic impacts associated with the Proposed Action, including direct, indirect, and cumulative effects. Mitigation of adverse effects through avoidance and environmentally sensitive design, such as establishment of buffers, would be used to avoid impacts to sensitive resources to the maximum extent practicable. The Final EIS identifies additional mitigation measures that the Army may implement to further reduce identified adverse impacts.

The Army has completed consultation for this action under Section 7 of the Endangered Species Act, and this is incorporated in the EIS.

The Army identified three reasonable Action Alternatives that would meet the purpose of and need for the Proposed Action; these three Action Alternatives (i.e., three distinct locations on Fort Benning where a HOMMTA could be constructed) are analyzed in detail in the Final EIS.

1. Alternative 1 (Preferred Alternative): Northern Mounted Maneuver Training Area Alternative: This alternative includes approximately 4,724 acres and is located adjacent to and east of the current Northern Maneuver Training Area and west of and near Fort Benning's Digital Multi-Purpose Range Complex (DMPRC).

Of the Action Alternatives, Alternative 1 would provide the most preferable size and configuration to enable high-quality heavy off-road mounted maneuver training. Accordingly, the Army has identified Alternative 1 as the Preferred Alternative to implement the Proposed Action.

2. Alternative 2: Red Diamond Alternative: This alternative includes approximately 3,744 acres and is located south of the Southern Maneuver Training Area (SMTA) near the Installation's southern boundary.

3. Alternative 3: Eastern Boundary Alternative: This alternative includes approximately 2,405 acres and is located between the northern dudded impact area and the Installation's eastern boundary.

The Army also carried forward the No Action Alternative for detailed analysis in the Final EIS. While the No Action Alternative would not satisfy the purpose and need for the Proposed Action, this Alternative was retained to provide a comparative baseline against which to analyze the effects of the Action Alternatives as required under the Council on Environmental Quality's NEPA Regulation.

Resource areas analyzed in the Final EIS include: Land use (recreation), air quality, noise, soils and topography, water resources (including wetlands and floodplains), biological resources, cultural resources, socioeconomics, infrastructure, and hazardous and toxic materials and waste.

Based on the analysis presented in the Final EIS, potentially significant adverse impacts could occur to biological resources (i.e., from disturbance of unique ecological areas). Impacts to all other resource areas would be less-than-significant (i.e., negligible, minor, or moderate) adverse or beneficial. Practical mitigation measures are presented in the Final EIS to reduce potential adverse effects.

All Action Alternatives for the Proposed Action may adversely impact wetlands and/or 100-year floodplains. Accordingly, the Army has also prepared a FONPA to comply with Executive Order (E.O.) 11988, Floodplain Management, and E.O. 11990, Protection of Wetlands. As described in the Final EIS, environmental protection measures (e.g., buffers from heavy maneuver training) and regulatory compliance measures (e.g., permitting under Sections 401 and 404 of the CWA) would be implemented to minimize adverse impacts on these resources.

The Army conducted a public review and comment period for the Draft EIS between May 29 and July 13, 2020, including a public teleconference on June 30, 2020. The Army considered and addressed in the Final EIS comments received on the Draft EIS during this comment period.

Printed copies of the Final EIS and FONPA will be made available to the public for 30 days at the Columbus Public Library, Cusseta-Chattahoochee County Public Library, Milton E. Long Library, and the Phenix City-Russell County Library, if the libraries are open for public visitation when this NOA is published. An electronic copy of the Final EIS and FONPA is posted on the HOMMTA EIS web page at https://www.benning.army.mil.

After publication of this NOA of the Final EIS, the Army will prepare and publish its ROD announcing which Alternative is environmentally preferred, which Alternative it selects for implementation (be it an Action Alternative or the No Action Alternative), and which mitigation measures it will implement to reduce potential adverse impacts. Publication of the ROD will occur no sooner than 30 days after publication of this NOA of the Final EIS.

James W. Satterwhite,
Alternate, Army Federal Register Liaison Officer.

[FR Doc. 2021-03208 Filed 2-17-21; 8:45 am]

BILLING CODE 5061-AP-P